DEPARTMENT OF COMMERCE

National Oceanic and Atmospheric Administration

[RTID 0648-XE499]

Pacific Fishery Management Council; Public Meetings and Hearings

AGENCY: National Marine Fisheries Service (NMFS), National Oceanic and Atmospheric Administration (NOAA), Commerce.

ACTION: Notice of availability of reports, public meetings, and hearings.

SUMMARY: The Pacific Fishery Management Council (Pacific Council) has begun its annual preseason management process for the 2025 ocean salmon fisheries. This document announces the availability of Pacific Council documents, as well as the anticipated dates and locations of upcoming Pacific Council meetings and public hearings hosted by the Pacific Council. These documents and events comprise the Pacific Council's complete schedule for determining the annual proposed and final modifications to ocean salmon fishery management measures. The agendas for the March and April 2025 Pacific Council meetings will be published in subsequent Federal Register documents prior to the actual meetings.

DATES: Written comments on the salmon management alternatives must be submitted through the Pacific Council's e-portal (https://pfmc.psmfc.org) and received by the public comment deadline prior to the April 2025 Council meeting. Information will be available on the Pacific Council's website (http://www.pcouncil.org) as the date for the April Council meeting approaches.

ADDRESSES: Written documents will be available upon request from the Pacific Fishery Management Council, 7700 NE Ambassador Place, Suite 101, Portland, OR 97220-1384, telephone: (503) 820-2280 (voice) or (503) 820-2299 (fax).

Council address: Pacific Fishery Management Council, 7700 NE Ambassador Place, Suite 101, Portland, OR 97220.

FOR FURTHER INFORMATION CONTACT: Ms. Angela Forristall, telephone: (503) 820-2419.

SUPPLEMENTARY INFORMATION:

Tentative Schedule for Document Completion and Availability

Mid-February 2025: “Review of 2024 Ocean Salmon Fisheries, Stock Assessment and Fishery Evaluation Document for the Pacific Coast Salmon Fishery Management Plan” is scheduled to be posted on the Pacific Council website at https://www.pcouncil.org.

Early March 2025: “Preseason Report I—Stock Abundance Analysis and Environmental Assessment Part 1 for 2025 Ocean Salmon Fishery Regulations” is scheduled to be posted on the Pacific Council website at https://www.pcouncil.org.

Late March 2025: “Preseason Report II—Proposed Alternatives and Environmental Assessment Part 2 for 2025 Ocean Salmon Fishery Regulations.” The report will include a description of the adopted salmon management alternatives and a summary of their biological and economic impacts. The public hearings schedule will also be included on the inside cover of the report and will be posted on the Pacific Council website at https://www.pcouncil.org.

April 24, 2025: “Preseason Report III—Council-Adopted Management Measures and Environmental Assessment Part 3 for 2025 Ocean Salmon Fishery Regulations” is scheduled to be posted on the Pacific Council website at https://www.pcouncil.org.

May 16, 2025: Federal regulations for 2025 ocean salmon regulations are published in the Federal Register and implemented.

Meetings and Hearings

January 21-24, 2025: The Salmon Technical Team (STT) will meet for a public work session to draft “Review of 2024 Ocean Salmon Fisheries, Stock Assessment and Fishery Evaluation Document for the Pacific Coast Salmon Fishery Management Plan” and to consider any other estimation or methodology issues pertinent to the 2025 ocean salmon fisheries. The STT may also discuss additional topics and work as time allows, including but not limited to salmon essential fish habitat review, salmon risk tables, or administrative matters on the Pacific Council's March and April 2025 meetings. The meeting is scheduled to be held in-person at the Pacific Council office located at 7700 NE Ambassador Place, Suite 101, Portland, OR 97220, however an online option to allow for the STT to be briefed on ancillary items may be added to support those particular discussions. Consult the Pacific Council's website at https://www.pcouncil.org as the meeting date approaches to get the most current information.

February 18-21, 2025: The STT will meet for a public work session to draft “Preseason Report I—Stock Abundance Analysis and Environmental Assessment Part 1 for 2025 Ocean Salmon Fishery Regulations” and to consider any other estimation or methodology issues pertinent to the 2025 ocean salmon fisheries. The STT may also discuss additional topics as time allows, including but not limited to those identified in the description for the January 2025 STT work session. The meeting is scheduled to be held in-person at the Pacific Council office located at 7700 NE Ambassador Place, Suite 101, Portland, OR 97220. Consult the Pacific Council's website at https://www.pcouncil.org as the meeting date approaches to get the most current information.

March 24-25, 2025: Three public hearings will be held to receive comments on the proposed 2025 ocean salmon fishery management alternatives adopted by the Pacific Council. Public hearings focusing on Washington and Oregon salmon fisheries are tentatively scheduled to occur simultaneously on March 24, and the public hearing for California salmon fisheries is tentatively scheduled for March 25. Each public hearing will be state-specific and begin at 7 p.m. The Washington and California public hearings are tentatively scheduled to be held in-person and occur in Westport, Washington and Santa Rosa, CA. The Oregon public hearing is scheduled to be held on-line. Consult the Pacific Council's website at https://www.pcouncil.org as the meeting date approaches to get the most current information. A summary of oral comments heard at the hearings will be provided to the Pacific Council at its April meeting.

Written comments on the salmon management alternatives must be submitted through the Pacific Council's e-portal (https://pfmc.psmfc.org) and received by the public comment deadline which is tentatively scheduled for 5 p.m. April 7, 2025, and prior to the start of the April 2025 Council meeting. Verbal comments on the salmon management alternatives are accepted during the Council meeting consistent with the Council's April 2025 agenda dates for salmon topics. Information will be available on the Pacific Council's website (https://www.pcouncil.org) as the date for the April Council meeting approaches.

Specific meeting information, including instructions on how to join the meeting and system requirements will be provided in meeting announcements on the Pacific Council's website (see www.pcouncil.org). You may send an email to Mr. Kris Kleinschmidt (kris.kleinschmidt@noaa.gov) or contact him at (503) 820-2412 for technical assistance.

Although non-emergency issues not contained in the STT meeting agendas may come before the STT for discussion, those issues may not be the subject of formal STT action during these meetings. STT action will be restricted to those issues specifically listed in this document and to any issues arising after publication of this document requiring emergency action under Section 305(c) of the Magnuson-Stevens Fishery Conservation and Management Act, provided the public has been notified of the STT's intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: December 6, 2024.
Rey Israel Marquez,
Acting Deputy Director, Office of Sustainable Fisheries, National Marine Fisheries Service.

[FR Doc. 2024-29116 Filed 12-10-24; 8:45 am]

BILLING CODE 3510-22-P